DEPARTMENT OF LABOR

Employment Standards Administration; Wage and Hour Division

29 CFR Part 500

Migrant and Seasonal Agricultural Worker Protection

AGENCY: Wage and Hour Division, Employment Standards Administration, Labor.

ACTION: Final rule.

SUMMARY: The purpose of this document is to change the Public Registry toll-free telephone number listed in § 500.170 of regulations, 29 CFR part 500.

DATES: This rule is effective on December 16, 2002.

FOR FURTHER INFORMATION CONTACT: Mary Ziegler, Team Leader, Farm Labor Team, Office of Enforcement Policy, Wage and Hour Division, Employment Standards Administration, U.S. Department Labor, Telephone (202) 693-0700. This is not a toll free number.

SUPPLEMENTARY INFORMATION:

I. Paperwork Reduction Act

This rule imposes no reporting or recordkeeping requirements on the public.

II. Background

Section 500.170 of regulations, 29 CFR part 500 requires the Administrator to establish a Central Public Registry of all persons issued a Certificate of Registration or a Farm Labor Contractor Employee Certificate. Information contained within the registry is made available upon request, either via the mail or by telephone. The toll-free number to call for obtaining information from the central public registry was formerly 1-800-800-0235. The Department of Labor's change in phone service has resulted in a new toll-free number for all public inquiries. The new number is 1-866-4US-WAGE (1-866-487-9243).

A. Summary of Rule

Section 500.170 of Regulations, 29 CFR part 500 is amended to provide for a new toll-free telephone number for obtaining information contained in the Central Public Registry. The new number is 1-866-4US-WAGE (1-866-487-9243).

B. Executive Order 12866

Because this rule merely changes the applicable toll-free telephone number for obtaining registry information, it is limited to agency organization and management matters and is, therefore, not subject to the requirements of Executive Order 12866. See Sec. 3(d)(3) of E.O. 12866.

C. Regulatory Flexibility Act

Because no notice of proposed rulemaking is required for the rule under 5 U.S.C. 553(b)(3), the requirements of the Regulatory Flexibility Act, Public Law 96-354, 94 Stat. 1165, 5 U.S.C. 601 et seq. pertaining to regulatory flexibility analysis, do not apply to this rule. See 5 U.S.C 601(2). The rule simply changes an applicable telephone number and will not have a significant economic impact on a substantial number of small entities.

D. Administrative Procedure Act

This regulation relates to internal agency practice or management or organization and is procedural in nature. Accordingly, pursuant to 5 U.S.C. §§ 553(a)(2) and 553 (b)(3)(A), the requirements for prior notice and public comment do not apply to this rule.

The Secretary also for good cause finds, pursuant to 5 U.S.C. 553(d)(3), that this rule should take effect immediately because it is merely a technical procedural change in an applicable toll-free telephone number which does not affect any substantive rights.

E. Document Preparation

This document was prepared under the direction and control of Tammy D. McCutchen, Administrator, Wage and Hour Division, Employment Standards Administration, U.S. Department of Labor.

List of Subjects in 29 CFR Part 500

Administrative practice and procedure, Agricultural, Aliens, Carpools, Farmer, Farm labor contractor, Housing standards, Immigration, Insurance, Investigation, Labor, Manpower training programs, Migrant labor, Motor carriers, Motor vehicle safety, Occupational safety and health, Penalties, Reporting requirements, Safety, Seasonal agricultural workers, Transportation, Wages.

For the reasons set forth above, 29 CFR part 500 is amended as set forth below.

Signed at Washington, DC on this 10th day of December, 2002.
Tammy D. McCutchen,
Administrator, Wage and Hour Division.

PART 500—MIGRANT AND SEASONAL AGRICULTURAL WORKER PROTECTION

1. The authority citation for part 500 is revised to read as follows:

Authority: Pub. L. 97-470, 96 Stat. 2583 (29 U.S.C. 1801-1872); Secretary's Order No. 4-2001, 66 FR 29656.

2. Section 500.170 is revised to read as follows:

§ 500.170 Establishment of registry.

The Administrator shall establish a central public registry of all persons issued a Certificate of Registration or a Farm Labor Contractor Employee Certificate. The central public registry shall be available at the Regional Offices of the Wage and Hour Division and its National Office in Washington, DC. Information filed therein shall be made available upon request. Requests for information contained in the registry may also be directed by mail to the Administrator, Wage and Hour Division. Attn: MSPA, U.S. Department of Labor, Washington, DC 20210. Alternatively, requests for registry information may be made by telephone by calling 1-866-4US-WAGE (1-866-487-9243), a toll-free number, during the hours of 8 a.m. to 5 p.m., in your time zone, Monday through Friday.

[FR Doc. 02-31525 Filed 12-13-02; 8:45 am]

BILLING CODE 4510-27-P